ENVIRONMENTAL PROTECTION AGENCY

[FRL-8479-2; Docket ID No. EPA-HQ-ORD-2007-0971]

An Exploratory Study: Assessment of Modeled Dioxin Exposure in Ceramic Art Studios

AGENCY: Environmental Protection Agency (EPA).

ACTION: Notice of public comment period.

SUMMARY: EPA is announcing a 45-day public comment period for the external review draft document titled, “An Exploratory Study: Assessment of Modeled Dioxin Exposure in Ceramic Art Studios” (EPA/600/R-06/044A). The draft document was prepared by the National Center for Environmental Assessment (NCEA) within EPA's Office of Research and Development.

For the external scientific peer review, EPA has contracted with Eastern Research Group (ERG) to convene an independent panel of experts and organize and conduct an external peer-review workshop. The date and location for the external peer-review workshop will be announced in a separate Federal Register notice. The public comment period and the external peer-review workshop are separate processes that provide opportunities for all interested parties to comment on the document. In addition to consideration by EPA, all public comments submitted in accordance with this notice will also be forwarded to EPA's contractor for the external peer-review panel's consideration prior to the workshop.

EPA is releasing this external review draft document solely for the purpose of pre-dissemination peer review under applicable information quality guidelines. This document has not been formally disseminated by EPA. It does not represent and should not be construed to represent any Agency policy or determination.

DATES: The 45-day public comment period begins October 4, 2007, and ends November 19, 2007. Technical comments should be in writing and must be received by EPA by November 19, 2007.

ADDRESSES: The external review draft document, “An Exploratory Study: Assessment of Modeled Dioxin Exposure in Ceramic Art Studios,” is available primarily via the Internet on the National Center for Environmental Assessment's home page under the Recent Additions and the Data and Publications menus at http://www.epa.gov/ncea. A limited number of paper copies are available from the Technical Information Staff, NCEA-W; telephone: 202-564-3261; facsimile: 202-565-0050. If you are requesting a paper copy of the draft document, please provide your name, mailing address, and the document title, “An Exploratory Study: Assessment of Modeled Dioxin Exposure in Ceramic Art Studios.”

Comments may be submitted electronically via http://www.regulations.gov, by mail, by facsimile, or by hand delivery/courier. Please follow the detailed instructions as provided in the SUPPLEMENTARY INFORMATION section of this notice.

FOR FURTHER INFORMATION CONTACT: For information on the public comment period, contact the Office of Environmental Information Docket; telephone: 202-566-1752; facsimile: 202-566-1753; or e-mail: ORD.Docket@epa.gov.

If you need technical information about the draft document, please contact John Schaum, National Center for Environmental Assessment (NCEA); telephone: 202-564-3237; facsimile: 202-565-0078; e-mail schaum.john@epa.gov.

SUPPLEMENTARY INFORMATION:

I. Information About the Document

The purpose of this report is to describe an exploratory investigation of potential dioxin exposures to artists and hobbyists who use ball clay to make pottery and related products. Dermal, inhalation and ingestion exposures to clay were measured at the ceramics art department of Ohio State University in Columbus, Ohio. Estimates of exposure were made based on measured levels of clay in the studio air, deposited on surrogate food samples and on the skin of artists. The measurements were made in two separate studies, one in April 2003 and one in July 2004. This draft assessment combines the results of these two studies.

II. How To Submit Technical Comments to the Docket at www.regulations.gov

Submit your comments, identified by Docket ID No. EPA-HQ-ORD-2007-0971, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the Docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2007-0971. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the OEI Docket in the EPA Headquarters Docket Center.

Dated: September 26, 2007.
Rebecca Clark,
Acting Director, National Center for Environmental Assessment.

[FR Doc. E7-19638 Filed 10-3-07; 8:45 am]

BILLING CODE 6560-50-P